DEPARTMENT OF COMMERCE

International Trade Administration

[A-570-028]

Antidumping Duty Order on Hydrofluorocarbon Blends From the People's Republic of China: Final Affirmative Determination of Circumvention With Respect to R-410B From the Republic of Türkiye

AGENCY: Enforcement and Compliance, International Trade Administration, Department of Commerce.

SUMMARY: The U.S. Department of Commerce (Commerce) determines that imports of R-410B from the Republic of Türkiye (Türkiye), which are completed in Türkiye using components originating in the People's Republic of China (China), and further processed in the United States, as specified below, are circumventing the antidumping duty (AD) order on hydrofluorocarbon (HFC) blends from China.

DATES: Applicable July 11, 2024.

FOR FURTHER INFORMATION CONTACT: Melissa Porpotage, AD/CVD Operations, Office II, Enforcement and Compliance, International Trade Administration, U.S. Department of Commerce, 1401 Constitution Avenue NW, Washington, DC 20230; telephone: (202) 482-1413.

SUPPLEMENTARY INFORMATION:

Background

On August 19, 2016, Commerce published the Order in the Federal Register.¹ On July 7, 2023, Commerce initiated a country-wide circumvention inquiry to determine whether imports of R-410B from Türkiye, completed in Türkiye using HFC components R-32 (difluoromethane) and R-125 (pentafluoroethane) (collectively, Chinese-origin HFC components) manufactured in China, and further processed in the United States are circumventing the Order and, accordingly, should be covered by the scope of the Order.² On March 4, 2024, Commerce published in the Federal Register its Preliminary Determination that imports of R-410B completed in Türkiye using Chinese-origin HFC components and subsequently exported from Türkiye to the United States are circumventing the Order.³

¹ See Hydrofluorocarbon Blends from the People's Republic of China: Antidumping Duty Order, 81 FR 55436 (August 19, 2016) (Order).

² See Hydrofluorocarbon Blends from the People's Republic of China: Initiation of Circumvention Inquiries on the Antidumping Duty Order, 88 FR 43275 (July 7, 2023) (Initiation Notice).

³ See Antidumping Duty Order on Hydrofluorocarbon Blends from the People's Republic of China: Preliminary Affirmative Determination of Circumvention With Respect to R-410B from the Republic of Turkey, 89 FR 16536 (March 7, 2024) (Preliminary Determination), and accompanying Preliminary Decision Memorandum (PDM).

For a summary of events that occurred since the Preliminary Determination, as well as a full discussion of the issues raised by parties for consideration in the final determination, see the Issues and Decision Memorandum.⁴ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Memorandum, “Issues and Decision Memorandum for the Circumvention Inquiry of the Antidumping Duty Order on Hydrofluorocarbon Blends from the People's Republic of China with Respect to Imports of R-410B from the Republic of Türkiye,” dated concurrently with, and hereby adopted by, this notice (Issues and Decision Memorandum).

Scope of the Order

The merchandise covered by the Order is certain HFC blends. For a complete description of the scope of the Order, see the Issues and Decision Memorandum.

Merchandise Subject to the Circumvention Inquiry

This circumvention inquiry covers imports of R-410B from Türkiye, which are completed in Türkiye using Chinese-origin HFC components and further processed in the United States (inquiry merchandise).

Methodology

Commerce conducted this circumvention inquiry in accordance with section 781(b) of the Tariff Act of 1930, as amended (the Act), and 19 CFR 351.226. See the Preliminary Determination for a full description of the methodology. We have continued to apply this methodology, without exception, and incorporate by reference this description of the methodology, for our final determination.

Analysis of Comments Received

All issues raised in this inquiry are addressed in the Issues and Decision Memorandum. A list of the issues raised is attached to this notice in Appendix I. Based on our analysis of the comments received from the petitioner ⁵ and the participating respondents,⁶ we made no changes to the Preliminary Determination.

⁵ The petitioner is the American HFC Coalition, which consists of individual members Arkema, Inc., The Chemours Company FC LLC, Honeywell International Inc., and Mexichem Fluor Inc.

⁶ The participating respondents are ICE Sogutma Sanayi Ve Ticaret Ltd., SAM Gas Turkey Endustri Gazlari Anonim Sikreti, and IGas Holdings, Inc.

Final Circumvention Determination

We determine that imports of R-410B completed in Türkiye, using Chinese-origin HFC components, that are further processed in the United States, are circumventing the Order. As a result, in accordance with section 781(a) of the Act, we determine that this merchandise should be included within the scope of the Order. Moreover, we determine, in accordance with 19 CFR 351.226(m)(1)(ii) that this determination should be applied on a country-wide basis. See the “Suspension of Liquidation and Cash Deposit Requirements” section below for details regarding suspension of liquidation and cash deposit requirements. See the “Certifications” and “Certification Requirements for Türkiye” sections below for details regarding the use of certifications for inquiry merchandise exported from Türkiye.

Use of Adverse Facts Available (AFA)

In this inquiry, Commerce continues to find that necessary information is not available on the record with respect to by Cantas Ic Ve Dis Ticaret Sogutma Sistermleri Sanayi A.S. (Cantas) within the meaning of section 776(a)(1) of the Act, and that Cantas withheld requested information, failed to provide requested information by the deadline or in the form or manner requested, and significantly impeded the inquiry pursuant to sections 776(a)(1), (A), (B), and (C) of the Act. Moreover, Commerce continues to find that this company failed to cooperate by not acting to the best of its ability to provide the requested information pursuant to section 776(b)(1) of the Act. Consequently, we continue to use adverse inferences with respect to Cantas in selecting from among the facts otherwise available on the record, pursuant to sections 776(a) and (b) of the Act, for the reasons discussed in the Preliminary Determination. Based on AFA, we determine that Cantas further processed the inquiry merchandise in the United States into subject merchandise and that U.S. entries of that merchandise are circumventing the Order. Additionally, Cantas is precluded from participating in the certification program established for exports of R-410B completed in Türkiye using Chinese-origin HFC components, that is further processed in the United States.

Suspension of Liquidation and Cash Deposit Requirements

Based on the affirmative determination of circumvention for Türkiye, and our decision to apply this determination on a country-wide basis, pursuant to 19 CFR 351.225(m)(1)(ii), in accordance with 19 CFR 351.226(l)(3)(iii)(A), we will direct U.S. Customs and Border Protection (CBP) to suspend liquidation and require a cash deposit of estimated duties on unliquidated entries of R-410B, completed in Türkiye using Chinese-origin components, that were entered, or withdrawn from warehouse, for consumption on or after July 7, 2023, the date of publication of the initiation of this circumvention inquiry in the Federal Register.⁷ CBP shall require cash deposits in accordance with the rate established for the China-wide entity, i.e., 216.37 percent,⁸ for entries of such merchandise produced in Türkiye.

⁷ See Initiation Notice, 88 FR at 43275.

⁸ See Order, 81 FR at 55438.

R-410B produced in Türkiye from HFC blends that is not of Chinese-origin is not subject to this inquiry. Therefore, cash deposits are not required for such merchandise under the Order. If an importer imports R-410B from Türkiye and claims that it was not produced using Chinese-origin HFC components and/or not further processed into subject merchandise in the United States, in order to not be subject to the Order cash deposit requirements, the importer and exporter are required to meet the certification and documentation requirements described in the “Certifications” and “Certification Requirements for Türkiye” sections, below.

Commerce has established the following third-country case number for Türkiye in the Automated Commercial Environment (ACE) for such entries: A-489-400. For Cantas, which will not be permitted to file a certification in accordance with this determination, Commerce will direct CBP, for all entries of R-410B from Türkiye produced or exported by Cantas, to suspend liquidation and require a cash deposit at the rate established for the China-wide entity, i.e., 216.37 percent, under this third-country case number.⁹

⁹ Cantas is not currently eligible to participate in the certification program as either the producer or exporter. In addition, other parties exporting R-410B produced by Cantas will likewise not be eligible to participate in the certification program with regard to such products.

Where no certification is provided for an entry, and the Order potentially applies to that entry, Commerce intends to instruct CBP to suspend the entry and collect cash deposits at the rate established for the China-wide entity, i.e., 216.37 percent, under the third-country case number above. These suspension of liquidation instructions will remain in effect until further notice.

Certified Entries

Entries for which the importer and exporter have met the certification requirements described below and in Appendix II to this notice will not be subject to suspension of liquidation or the cash deposit requirements described above. Failure to comply with the applicable requisite certification requirements may result in the merchandise being subject to duties.

Certifications

To administer the country-wide affirmative determination of circumvention, Commerce established importer and exporter certifications, which allow companies to certify that specific entries of R-410B from Türkiye are not subject to suspension of liquidation or the collection of cash deposits pursuant to this affirmative determination of circumvention, as applied on a country-wide basis, because the merchandise is not made with Chinese-origin components and/or it is not further processed into subject merchandise in the United States (see Appendix II to this notice).

Because Cantas was non-cooperative, it is not currently eligible to use the certification described above.¹⁰ Commerce may reconsider the eligibility of Cantas in the certification process in a future administrative review. See the “Opportunity To Request an Administrative Review” section below.

¹⁰ See Preliminary Determination PDM at the “Application of Facts Available and Use of Adverse Inferences” section; see also, e.g., Anti-circumvention Inquiry of the Antidumping Duty Order on Certain Pasta from Italy: Affirmative Preliminary Determination of Circumvention of the Antidumping Duty Order, 63 FR 18364, 18366 (April 15, 1998), unchanged in Anti-Circumvention Inquiry of the Antidumping Duty Order on Certain Pasta from Italy: Affirmative Final Determination of Circumvention of the Antidumping Duty Order, 63 FR 54672, 54675-76 (October 13, 1998).

Importers and exporters that claim that the entry of R-410B from Türkiye is not subject to suspension of liquidation or the collection of cash deposits because the merchandise is not made with Chinese-origin components and/or is not further processed into subject merchandise in the United States must complete the applicable certification and meet the certification and documentation requirements described below, as well as the requirements identified in the applicable certification.

Certification Requirements for Türkiye

Importers are required to complete and maintain the applicable importer certification, maintain a copy of the applicable exporter certification, and retain all supporting documentation for both certifications. With the exception of the entries described below, the importer certification must be completed, signed, and dated by the time the entry summary is filed for the relevant entry. The importer, or the importer's agent, must submit both the importer's certification and the exporter's certification to CBP as part of the entry process by uploading them into the document imaging system (DIS) in ACE. Where the importer uses a broker to facilitate the entry process, the importer should obtain the entry summary number from the broker. Agents of the importer, such as brokers, however, are not permitted to certify on behalf of the importer.

Exporters are required to complete and maintain the applicable exporter certification and provide the importer with a copy of that certification and all supporting documentation (e.g., invoice, purchase order, production records, etc.). With the exception of the entries described below, the exporter certification must be completed, signed, and dated by the time of shipment of the relevant entries. The exporter certification should be completed by the party selling the R-410B that was manufactured in Türkiye to the United States.

Additionally, the claims made in the certifications and any supporting documentation are subject to verification by Commerce and/or CBP. Importers and exporters are required to maintain the certifications and supporting documentation until the later of: (1) the date that is five years after the latest entry date of the entries covered by the certification; or (2) the date that is three years after the conclusion of any litigation in United States courts regarding such entries.

For unliquidated entries (and entries for which liquidation has not become final) of R-410B from Türkiye that were declared as non-AD type entries (e.g., type 01) and entered, or withdrawn from warehouse, for consumption in the United States during the period July 7, 2023 (the date of initiation of this circumvention inquiry), through the date of publication of the Preliminary Determination in the Federal Register, for which none of the above certifications may be made, importers must file a Post Summary Correction with CBP, in accordance with CBP's regulations, regarding conversion of such entries from non-AD type entries to AD type entries (e.g., type 01 to type 03). Importers should report those AD type entries using the third-country case numbers identified in the “Suspension of Liquidation and Cash Deposit Requirements” section, above. The importer should pay cash deposits on those entries consistent with the regulations governing post summary corrections that require payment of additional duties, including antidumping/countervailing duties (CVD).

If it is determined that an importer and/or exporter has not met the certification and/or related documentation requirements for certain entries, Commerce intends to instruct CBP to suspend, pursuant to this affirmative determination of circumvention, as applied on a country-wide basis, and the Order, all unliquidated entries for which these requirements were not met and to require the importer to post applicable cash deposits equal to the rate noted above.

Opportunity To Request an Administrative Review

Each year during the anniversary month of the publication of an AD or CVD order, finding, or suspended investigation, an interested party, as defined in section 771(9) of the Act, may request, in accordance with 19 CFR 351.213, that Commerce conduct an administrative review of that AD or CVD order, finding, or suspended investigation. An interested party who would like Commerce to conduct an administrative review should wait until Commerce announces via the Federal Register the next opportunity during the anniversary month of the publication of the Order to submit such requests. The anniversary month for this Order is August.

Administrative Protective Order

This notice will serve as the only reminder to all parties subject to an administrative protective order (APO) of their responsibility concerning the destruction of proprietary information disclosed under APO in accordance with 19 CFR 351.305(a)(3). Timely written notification of the return or destruction of APO materials or conversion to judicial protective order is hereby requested. Failure to comply with the regulations and the terms of an APO is a sanctionable violation.

Notification to Interested Parties

This determination is issued and published in accordance with section 781(b) of the Act and 19 CFR 351.226(g)(2).

Dated: July 5, 2024.
Ryan Majerus,
Deputy Assistant Secretary for Policy and Negotiations, performing the non-exclusive functions and duties of the Assistant Secretary for Enforcement and Compliance.

Appendix I

List of Topics Discussed in the Issues and Decision Memorandum

I. Summary

II. Background

III. Scope of the Order

IV. Merchandise Subject to the Circumvention Inquiry

V. Period of Circumvention Inquiry

VI. Discussion of the Issues

Comment 1: Retroactive Suspension of Liquidation and Cash Deposit Requirement

Comment 2: Including Imports of R-410B in Administrative Reviews or Scope Inquiries

Comment 3: Commerce's Affirmative Preliminary Determination Is Contrary to Law

Comment 4: Commerce Should Amend Its Certification Requirements

Comment 5: Commerce Should Continue to Find that ICE Sogutma Sanayi Ve Ticaret Ltd. (ICE Sogutma), SAM Gas Turkey Endustri Gazlari Anonim Sikreti (SAM Gas), and IGas Holdings, Inc. (IGas) Have Not Circumvented the Order

VII. Recommendation

Appendix II

Importer Certification

I hereby certify that:

A. My name is {IMPORTING COMPANY OFFICIAL'S NAME} and I am an official of {NAME OF IMPORTING COMPANY}, located at {ADDRESS of IMPORTING COMPANY}.

B. I have direct personal knowledge of the facts regarding the importation into the Customs territory of the United States of the hydrofluorocarbon (HFC) blend R-410B produced in Türkiye that entered under the entry number(s) identified below, and which is covered by this certification. “Direct personal knowledge” refers to facts the certifying party is expected to have in its own records. For example, the importer should have direct personal knowledge of the importation of the product, including the exporter's and/or foreign seller's identity and location.

C. If the importer is acting on behalf of the first U.S. customer, include the following sentence as paragraph C of this certification:

The R-410B covered by this certification was imported by {IMPORTING COMPANY} on behalf of {U.S. CUSTOMER}, located at {ADDRESS OF U.S. CUSTOMER};

If the importer is not acting on behalf of the first U.S. customer, include the following sentence as paragraph C of this certification:

{NAME OF IMPORTING COMPANY} is not acting on behalf of the first U.S. customer.

D. The R-410B covered by this certification was shipped to {NAME OF PARTY IN THE UNITED STATES TO WHOM THE MERCHANDISE WAS FIRST SHIPPED} located at {U.S. ADDRESS TO WHICH MERCHANDISE WAS SHIPPED}.

E. Select appropriate statement below:

__The R-410B covered by this certification does not contain HFC components produced in the People's Republic of China (China).

__I have direct personal knowledge of the facts regarding the end use of the imported product because my company is the end user of the imported product covered by this certification and I certify that the imported R-410B from Türkiye will not be used to produce subject merchandise. “Direct personal knowledge” includes information contained within my company's books and records.

__I do not have personal knowledge of the facts regarding the end use of the imported product because my company is not the end user of the imported product covered by this certification. However, I have been able to contact the end user of the imported product and confirm that it will not use this product to produce subject merchandise. The end user of the imported product is {COMPANY NAME} located at {ADDRESS}. “Personal knowledge” includes facts obtained from another party (e.g., correspondence received by the importer from the end user of the product).

F. The imported R-410B covered by this certification will not be further processed into in-scope HFC blends in the United States.

G. This certification applies to the following entries (repeat this block as many times as necessary):

Entry Summary #:

Entry Summary Line Item #:

Foreign Seller:

Foreign Seller's Address:

Foreign Seller's Invoice #:

Foreign Seller's Invoice Line Item #:

Country of Origin of HFC Components:

Producer:

Producer's Address:

H. I understand that {NAME OF IMPORTING COMPANY} is required to maintain a copy of this certification and sufficient documentation supporting this certification (i.e., documents maintained in the normal course of business, or documents obtained by the certifying party, for example, product data sheets, chemical testing specifications, productions records, invoices, etc.) for the later of: (1) the date that is five years after the date of the latest entry covered by the certification; or (2) the date that is three years after the conclusion of any litigation in the United States courts regarding such entries.

I. I understand that {IMPORTING COMPANY} is required to submit a copy of the importer and exporter certifications as part of the entry summary by uploading them into the document imaging system (DIS) in ACE, and to provide U.S. Customs and Border Protection (CBP) and/or the U.S. Department of Commerce (Commerce) with the importer certification, and any supporting documentation, and a copy of the exporter's certification, and any supporting documentation provided to the importer by the exporter, upon request of either agency;

J. I understand that the claims made herein, and the substantiating documentation, are subject to verification by CBP and/or Commerce.

K. I understand that failure to maintain the required certification and supporting documentation, or failure to substantiate the claims made herein, or not allowing CBP and/or Commerce to verify the claims made herein, may result in a de facto determination that all entries to which this certification applies are within the scope of the antidumping duty (AD) order on HFC blends from China. I understand that such finding will result in:

(i) suspension of liquidation of all unliquidated entries (and entries for which liquidation has not become final) for which these requirements were not met;

(ii) the requirement that the importer post applicable antidumping duty cash deposits (as appropriate) equal to the rates determined by Commerce; and

(iii) the importer no longer being allowed to participate in the certification process.

L. I understand that agents of the importer, such as brokers, are not permitted to make this certification.

M. This certification was completed by the time of filing the entry summary, if the entry date is more than 14 days after the publication of Commerce's preliminary determination of circumvention in the Federal Register, or within 45 days of the date on which Commerce published its notice of preliminary determination of circumvention in the Federal Register.

N. I am aware that U.S. law (including, but not limited to, 18 U.S.C. 1001) imposes criminal sanctions on individuals who knowingly and willfully make materially false statements to the U.S. government.

Signature

{NAME OF COMPANY OFFICIAL}

{TITLE OF COMPANY OFFICIAL}

{DATE}

Exporter Certification

The party that made the sale to the United States should fill out the exporter certification.

I hereby certify that:

A. My name is {COMPANY OFFICIAL'S NAME} and I am an official of {NAME OF FOREIGN COMPANY THAT MADE THE SALE TO THE UNITED STATES); located at {ADDRESS OF FOREIGN COMPANY THAT MADE THE SALE TO THE UNITED STATES);

B. I have direct personal knowledge of the facts regarding the production and exportation of the hydrofluorocarbon (HFC) blend R-410B for which sales are identified below. “Direct personal knowledge” refers to facts the certifying party is expected to have in its own records. For example, an exporter should have direct personal knowledge of the producer's identity and location.

C. The R-410B, and the individual components thereof, covered by this certification was shipped to {NAME OF PARTY IN THE UNITED STATES TO WHOM MERCHANDISE WAS FIRST SHIPPED}, located at {U.S. ADDRESS TO WHICH MERCHANDISE WAS SHIPPED;

D. The R-410B produced in Türkiye does not contain HFC components (i.e., R-32 and R-125) produced in the People's Republic of China (China), regardless of whether sourced directly from a Chinese producer or from a downstream supplier;

E. This certification applies to the following sales to {NAME OF U.S. CUSTOMER}, located at {ADDRESS OF U.S. CUSTOMER} (repeat this block as many times as necessary):

Foreign Seller's Invoice # to U.S. Customer:

Foreign Seller's Invoice to U.S. Customer Line item #:

Producer Name:

Producer's Address:

Producer's Invoice # to Foreign Seller: (If the foreign seller and the producer are the same party, put NA here.)

Name of Producer of HFC Components:

Location (Country) of Producer of HFC Components:

F. I understand that {NAME OF FOREIGN COMPANY THAT MADE THE SALE TO THE UNITED STATES required to maintain a copy of this certification and sufficient documentation supporting this certification (i.e., documents maintained in the normal course of business, or documents obtained by the certifying party, for example, product data sheets, chemical testing specifications, productions records, invoices, etc.) for the later of: (1) the date that is five years after the latest date of the entries covered by the certification; or (2) the date that is three years after the conclusion of any litigation in the United States courts regarding such entries;

G. I understand that {NAME OF FOREIGN COMPANY THAT MADE THE SALE TO THE UNITED STATES} is required to provide the U.S. importer with a copy of this certification and is required to provide U.S. Customs and Border Protection (CBP) and/or the U.S. Department of Commerce (Commerce) with this certification, and any supporting documents, upon request of either agency;

H. I understand that the claims made herein, and the substantiating documentation are subject to verification by CBP and/or Commerce;

I. I understand that failure to maintain the required certification and supporting documentation, or failure to substantiate the claims made herein, or not allowing CBP and/or Commerce to verify the claims made herein, may result in a de facto determination that all sales to which this certification applies are within the scope of the antidumping duty order on HFC blends from China. I understand that such a finding will result in:

(i) suspension of all unliquidated entries (and entries for which liquidation has not become final) for which these requirements were not met;

(ii) the importer being required to post the cash deposits determined by Commerce; and

(iii) the seller/exporter no longer being allowed to participate in the certification process.

J. I understand that agents of the seller/exporter, such as freight forwarding companies or brokers, are not permitted to make this certification.

K. This certification was completed at the time of shipment, if the entry date is more than 14 days after the publication of Commerce's preliminary determination of circumvention in the Federal Register, or within 45 days of the date on which Commerce published its preliminary determination of circumvention in the Federal Register.

L. I am aware that U.S. law (including, but not limited to, 18 U.S.C. 1001) imposes criminal sanctions on individuals who knowingly and willfully make material false statements to the U.S. government.

Signature

{NAME OF COMPANY OFFICIAL}

{TITLE OF COMPANY OFFICIAL }

{DATE}

[FR Doc. 2024-15262 Filed 7-10-24; 8:45 am]

BILLING CODE 3510-DS-P